DEPARTMENT OF VETERANS AFFAIRS

Notice of Request for Information on the Department of Veterans Affairs Program of Comprehensive Assistance for Family Caregivers (PCAFC); Correction

AGENCY: Department of Veterans Affairs.

ACTION: Request for information; correction.

SUMMARY: On January 5, 2018, the Department of Veterans Affairs (VA) published a Notice, Request for Information in the Federal Register, 83 FR 701, requesting information regarding its Program of Comprehensive Assistance for Family Caregivers (PCAFC). That notice contained incorrect information.

DATES: Comments in response to this request for information must be received by VA on or before February 5, 2018.

ADDRESSES: Written comments may be submitted through http://www.Regulations.gov; by mail or hand delivery to the Director, Office of Regulation Policy and Management (00REG), Department of Veterans Affairs, 810 Vermont Avenue NW, Room 1068, Washington, DC 20420; or by fax to (202) 273-9026. Comments should indicate that they are submitted in response to “Notice of Request for Information on the Department of Veterans Affairs Program of Comprehensive Assistance for Family Caregivers (PCAFC)”. Copies of comments received will be available for public inspection in the Office of Regulation Policy and Management (00REG), Department of Veterans Affairs, 810 Vermont Ave. NW, Room 1063B, Washington, DC 20420, between the hours of 8:00 a.m. and 4:30 p.m., Monday through Friday (except Federal holidays). Please call (202) 461-4902 (this is not a toll-free number) for an appointment. During the comment period, comments may also be viewed online through the Federal Docket Management System at www.Regulations.gov.

FOR FURTHER INFORMATION CONTACT: Margaret Kabat, National Director, Caregiver Support Program, 10P4C, Veterans Health Administration, Department of Veterans Affairs, 810 Vermont Avenue NW, Washington, DC 20420, 202-461-6780 (this is not a toll free number).

Correction

In the Federal Register of January 5, 2018, in FR doc 18-0004, on page 701 in the third column, correct the second sentence in the second-to-last paragraph to read as follows:

VA believes that 30 days is sufficient to provide comments, as the individuals, groups, and entities interested in this program likely have information and opinions readily available or can quickly compile and submit such information.

Dated: January 29, 2018.
Michael Shores,
Director, Office of Regulation Policy & Management, Office of the Secretary, Department of Veterans Affairs.

[FR Doc. 2018-01980 Filed 1-31-18; 8:45 am]

BILLING CODE 8320-01-P